DEPARTMENT OF TRANSPORTATION

Research and Innovative Technology Administration

[Docket No. RITA-2010-0001]

Notice of Request for Clearance of an Information Collection: Omnibus Household Survey Program

AGENCY: Bureau of Transportation Statistics (BTS), Research and Innovative Technology Administration (RITA), DOT.

ACTION: Notice and request for comments.

SUMMARY: In accordance with the requirements of section 3506(c)(2)(A) of the Paperwork Reduction Act of 1995, this notice announces the intention of the BTS to request the Office of Management and Budget's (OMB's) approval for an extension of a currently approved information collection related to the use of and satisfaction with the nation's transportation system.

DATES: Comments must be submitted on or before April 5, 2010.

ADDRESSES: You may submit comments identified by DOT Docket ID Number RITA-2010-0001 to the U.S. Department of Transportation (DOT), Dockets Management System (DMS). You may submit your comments by mail or in person to the Docket Clerk, Docket No. RITA-2010-0001, U.S. Department of Transportation, 1200 New Jersey Ave., SE., West Building Room W12-140, Washington, DC 20590. Comments should identify the docket number as indicated above. Paper comments should be submitted in duplicate. The DMS is open for examination and copying, at the above address, from 9 a.m. to 5 p.m., Monday through Friday, except federal holidays. If you wish to receive confirmation of receipt of your written comments, please include a self-addressed, stamped postcard with the following statement: “Comments on Docket RITA-2010-0001.” The Docket Clerk will date stamp the postcard prior to returning it to you via the U.S. mail. Please note that due to delays in the delivery of U.S. mail to Federal offices in Washington, DC, we recommend that persons consider an alternative method (the Internet, fax, or professional delivery service) to submit comments to the docket and ensure their timely receipt at U.S. DOT. You may fax your comments to the DMS at (202) 493-2251. Comments can also be viewed and/or submitted via the Federal eRulemaking Portal: http://www.regulations.gov.

Please note that anyone is able to electronically search all comments received into our docket management system by the name of the individual submitting the comment (or signing the comment if submitted on behalf of an association, business, labor union, etc.). You may review DOT's complete Privacy Act Statement in the Federal Register published on April 11, 2000 (Volume 65, Number 70; pages 19475-19570) or you may review the Privacy Act Statement at http://www.gpoaccess.gov/fr/.

FOR FURTHER INFORMATION CONTACT: Dr. Pheny Weidman, (202) 366-2817 OHS Program Manager, BTS, RITA, Department of Transportation, 1200 New Jersey Ave., SE., Room E32-318, Washington, DC 20590. Office hours are from 8:30 a.m. to 5 p.m., E.T., Monday through Friday, except Federal holidays.

SUPPLEMENTARY INFORMATION:

Title: Omnibus Household Survey Program.

Background: In 2005, Congress passed, and the President signed, the Safe, Accountable, Flexible, Efficient Transportation Equity Act: A Legacy for Users (SAFETEA-LU; Pub. L. 109-59). SAFETEA-LU contained a number of legislative mandates including providing data, statistics and analyses to transportation decision-makers. The Research and Innovative Technology Administration, Bureau of Transportation Statistics (RITA/BTS) was tasked to accomplish this legislative mandate under 49 U.S.C. 111(c)(5). RITA/BTS plans to use the Omnibus Household Survey (OHS) to:

• Assess the public's evaluation of the nation's transportation system in light of the DOT's strategic goals (safety, reduced congestion, global connectivity, environmental stewardship and security, preparedness and response),

• provide a vehicle for the operating administrations within the DOT as well as other governmental agencies, to survey the public about current transportation issues, and

• provide national estimates of transportation mode usage.

Each version of the OHS will focus on some subset of topics taken from the list below. Topics may vary from survey to survey since covering all topics in one questionnaire would make the respondent burden unacceptable:

Choices and Frequency of Mode Use in the Month and the Week Prior to the Survey Data Collection

Commercial air

Privately owned vehicle

Taxi

Rail transit (subway, streetcar, or light rail)

Commuter rail

Transit (local) and intercity (long distance) bus

Intercity rail (Amtrak)

Other modes such as biking and walking

Confidence in the safety of the following modes of transportation

Commercial air

Privately owned vehicle

Taxi

Rail transit (subway, streetcar, or light rail)

Commuter rail

Water transportation (taxis, ferries, ships)

Transit (local) and intercity (long distance) bus

Intercity rail (Amtrak)

Other modes such as biking/walking/ferries

Confidence in the security procedures for the following modes of transportation

Commercial air

Charter/general aviation

Rail transit (subway, streetcar, or light rail)

Commuter rail

Water transportation (taxis, ferries, ships)

Transit (local) and intercity (long distance) bus

Intercity rail (Amtrak)

Assessment of/satisfaction with security procedures for the following modes of transportation

Commercial air

Charter/general aviation

Rail transit (subway, streetcar, or light rail)

Commuter rail

Water transportation (taxis, ferries, ships)

Transit (local) and intercity (long distance) bus

Intercity rail (Amtrak)

Processing through security at

Commercial airports

Train stations

Waterway entry points for ferries, water taxis, cruises

Knowledge of current check-in procedures at

Commercial airports

Train stations

Waterway entry points for ferries, water taxis, cruises

Knowledge of/confidence in the Alien Flight Student Program

Experiences with transit delays related to suspicious/unattended baggage

Willingness/tolerance of transportation security risk management procedures

Information on journey to work

Transportation used (single mode/multiple mode)

Time required for one-way trip

Number of days traveled

Assessment of congestion

Methods for dealing with congestion

Telecommuting information

Commuting costs

Availability of transportation subsidies

Impact of congestion on commute

Impact of on-line shopping on passenger and freight travel

Impact of accessibility of transportation on livability of communities

Assessment of/opinions regarding distracted driving behaviors

Respondents: The target population for the OHS Program is the non-institutionalized population, aged 18 and older, who live in the United States. A national probability sample of households generated using list-assisted random digit dialing (RDD) methodology will be employed by the survey. Individual survey respondents within selected households will be chosen at random. The survey will include a total sample of 1,500 respondents, which is increased from a sample size of 1,000 used by previous data collections. The increase in sample size is due to the inclusion of questions regarding the safety of public transit. In order to ensure that there will be enough samples to produce reliable estimates for those questions, a total of 500 individuals will be oversampled from selected Metropolitan Statistical Areas that provide public transit services.

Estimated Average Burden per Response: The burden per respondent is estimated to be an average of 25 minutes based on calculations from previous data collections. This is a 10 minute increase from that stated for previous data collections. The increase is largely due to the increase in the length of questionnaire.

Estimated Total Annual Burden: The total annual burden is estimated to be 625 hours (that is 25 minutes times 1,500 respondents equals 37,500 minutes or 625 hours).

Frequency: This survey is scheduled to be conducted annually.

Public Comments Invited: Interested parties are invited to send comments regarding any aspect of this information collection, including, but not limited to: (1) The necessity and utility of the information collection for the proper performance of the functions of the DOT; (2) the accuracy of the estimated burden; (3) ways to enhance the quality, utility, and clarity of the collected information; and (4) ways to minimize the collection burden without reducing the quality of the collected information. Comments submitted in response to this notice will be summarized and/or included in the request for OMB's clearance of this information collection.

Authority: 49 U.S.C. 111(c)(5) and 5601 and 49 CFR 1.46(h).

Issued in Washington, DC, on the 26th day of January 2010.
Steven D. Dillingham,
Director, Bureau of Transportation Statistics, Research and Innovative Technology Administration.

[FR Doc. 2010-2133 Filed 2-1-10; 8:45 am]

BILLING CODE 4910-HY-P